DEPARTMENT OF ENERGY

Federal Energy Regulatory Commission

[Project No. 2459-286]

Lake Lynn Generation, LLC; Notice of Effectiveness of Withdrawal of Request for Temporary Variance

On July 16, 2024, Lake Lynn Generation, LLC filed a temporary variance request for the Lake Lynn Hydroelectric Project No. 2459. On September 11, 2024, Lake Lynn Generation, LLC filed a notice of withdrawal of the request for temporary variance.

No motion in opposition to the notice of withdrawal has been filed, and the Commission has taken no action to disallow the withdrawal. Pursuant to Rule 216(b) of the Commission's Rules of Practice and Procedure,¹ the withdrawal of the request for temporary variance became effective on September 26, 2024, and this proceeding is hereby terminated.

¹ 18 CFR 385.216(b) (2024).

Dated: October 2, 2024.
Debbie-Anne A. Reese,
Acting Secretary.

[FR Doc. 2024-23296 Filed 10-8-24; 8:45 am]

BILLING CODE 6717-01-P